DEPARTMENT OF DEFENSE

Office of the Secretary

[Docket ID DOD-2018-OS-0027]

Proposed Collection; Comment Request

AGENCY: Defense Security Service, DoD.

ACTION: Information collection notice.

SUMMARY: In compliance with the Paperwork Reduction Act of 1995, the Defense Security Service announces a proposed public information collection and seeks public comment on the provisions thereof. Comments are invited on: (a) whether the proposed collection of information is necessary for the proper performance of the functions of the agency, including whether the information shall have practical utility; (b) the accuracy of the agency's estimate of the burden of the proposed information collection; (c) ways to enhance the quality, utility, and clarity of the information to be collected; and (d) ways to minimize the burden of the information collection on respondents, including through the use of automated collection techniques or other forms of information technology.

DATES: Consideration will be given to all comments received by July 16, 2018.

ADDRESSES: You may submit comments, identified by docket number and title, by any of the following methods:

Federal eRulemaking Portal: http://www.regulations.gov. Follow the instructions for submitting comments.

Mail: Department of Defense, Office of the Chief Management Officer, Directorate for Oversight and Compliance, 4800 Mark Center Drive, Mailbox #24 Suite 08D09, Alexandria, VA 22350-1700.

Instructions: All submissions received must include the agency name, docket number and title for this Federal Register document. The general policy for comments and other submissions from members of the public is to make these submissions available for public viewing on the internet at http://www.regulations.gov as they are received without change, including any personal identifiers or contact information.

FOR FURTHER INFORMATION CONTACT: To request more information on this proposed information collection or to obtain a copy of the proposal and associated collection instruments, please write to the Defense Security Service, Program Integration Office, Project Integration Office Process and Governance Manager, ATTN: Mr. Chris Kubricky, Quantico, VA 22134, or call the Program Integration Office at, (571) 305-6243.

SUPPLEMENTARY INFORMATION:

Title; Associated Form; and OMB Number: Certificate Pertaining to Foreign Interest; SF328; OMB Control Number 0704-XXXX.

Needs and Uses: Completion of the SF 328 (which will be designated as a Common Form allowing its use by other federal agencies) and submission of supporting documentation (e.g., company or entity charter documents, board meeting minutes, stock or securities information, descriptions of organizational structures, contracts, sales, leases and/or loan agreements and revenue documents, annual reports and income statements, etc.) is part of the eligibility determination for access to classified information and/or issuance of a Facility Clearance.

Affected Public: Business or Other For-Profit; Not-For-Profit Institutions.

Annual Burden Hours: 2,243.5.

Number of Respondents: 1,923.

Responses per Respondent: 1.

Annual Responses: 1,923.

Average Burden per Response: 70 minutes.

Frequency: On occasion.

Dated: May 14, 2018.
Shelly E. Finke,
Alternate OSD Federal Register, Liaison Officer, Department of Defense.

[FR Doc. 2018-10529 Filed 5-16-18; 8:45 am]

BILLING CODE 5001-06-P